DEPARTMENT OF ENERGY

Draft Competition Rules for a Global Appliance Efficiency Award for Televisions

AGENCY: Office of Policy and International Affairs, Department of Energy.

ACTION: Notice of solicitation of comments.

SUMMARY: The U.S. Department of Energy (DOE) is working with partner governments within the Super-efficient Equipment and Appliance Deployment (SEAD) Initiative of the Clean Energy Ministerial to conduct an international competition to identify the most efficient televisions (TVs) available on the market. Ultimately, the international competition will allow consumers to differentiate and choose the most efficient product in their region within a given size category. Pursued alongside direct outreach to appliance and consumer electronics industry associations, this notice is intended to announce the publication of the first draft program rules for the 2012 SEAD Global Appliance Efficiency Award for Televisions and to offer an opportunity for interested parties to offer input on the proposed structure of the competition. Regional winners of the competition will gain the right to use the award logo and branding (currently under development) in their marketing, and the best of the regional winners will be named the global winner, recognized at the subsequent Clean Energy Ministerial meeting of energy ministers from major economies.

DATES: Comments on the draft competition rules must be submitted no later than July 8, 2011. Final versions of the SEAD Awards Terms and Conditions and the 2012 Television Awards Rules will be completed by the end of 2011. It is anticipated that product nominations will be accepted from February 1, 2012 to May 1, 2012. The SEAD Initiative plans to announce its first international award winners by October 1, 2012.

ADDRESSES: The draft program rules are posted for public download and review on the SEAD program Web site at: http://www.superefficient.org/awards.php. A comment form is available at: http://www.superefficient.org/awards.php. Comments may also be submitted via email to awards@superefficient.org. Interested parties may subscribe to future Awards program updates at: http://www.superefficient.org/awards.php#signup.

FOR FURTHER INFORMATION CONTACT: Questions about the television awards competition should be directed to: Mr. Stephen Pantano, SEAD Program Manager, Collaborative Labeling and Appliance Standards (CLASP), spantano@clasponline.org, or (202) 662-7440. (CLASP is the SEAD operating agent and will host the awards competition.) General questions about the awards program can be directed to: Mr. Arne Jacobson, Senior Advisor, DOE Office of Policy and International Affairs, at arne.jacobson@hq.doe.gov or (202) 586-2402.

SUPPLEMENTARY INFORMATION: The SEAD Initiative was launched in July 2010 as part of the Clean Energy Ministerial's Global Energy Efficiency Challenge (http://www.cleanenergyministerial.org). The Clean Energy Ministerial is a global forum for accelerating the transition to clean energy technologies. SEAD's purpose is to leverage high-level political dialogue to advance on-the-ground appliance and equipment efficiency efforts. SEAD activities are conducted by five working groups, covering standards and test procedures, awards, procurement, incentives, and cross-cutting technical analysis.

Fourteen SEAD member governments announced plans for an international awards competition for super-efficient appliances at the second Clean Energy Ministerial in April 2011. DOE leads the multilateral Working Group that is developing the SEAD Awards competition together with SEAD initiative counterparts from Australia, Canada, Japan, Sweden, and the United Kingdom. The Awards Working Group has selected televisions as the product for this first annual awards competition, since TVs contribute about 6-8 percent of global residential electricity consumption. Subsequent rounds of the awards competition will focus on other major energy-using appliances that are internationally traded and can be evaluated using established, internationally-recognized test methods. The awards competition will address product categories on a rotating basis, with a given product type being featured every few years.

The 2012 SEAD Global Appliance Efficiency Awards for Televisions will allow consumers to differentiate and choose the most efficient product in their markets within a given size category. A total of 20 awards are planned: One per size category (small/medium/large) for commercially-available products in each of four locations ¹ (Australia, Europe, India, and the United States); one international award per size category from among the winners of each region—a “best of the best” in each of the three size categories; and five “emerging technology” awards (one emerging technology award per market with no differentiation by size, and a fifth award for the “best of the best” of these models). Efficiency will be evaluated via internationally-recognized test methods,² and all potential winning products will be subject to verification testing to ensure the integrity of the awards.

¹ Future rounds of the awards may include a broader set of locations.

² The test procedures that will be used are those established by the International Electrotechnical Commission: IEC 62087, “Methods of measurement for the power consumption of audio, video, and related equipment” (Second Edition 2008-09) and IEC 62301, “Household electrical appliances—Measurement of standby power” (Edition 2.0 2011-01).

Requested Input: The Awards Working Group is interested in comments and feedback from interested stakeholders on all aspects of the draft program rules. However, comments addressing the following issues would be particularly valuable:

• Proposed nomination period, testing, dispute resolution, and award timing, particularly with regard to typical product production cycles and marketing/promotional needs;

• Proposed emerging technology award requirements, including use of the proposed evaluation methodology for Automatic Brightness Control (ABC) at 10, 100, 150, and 300 lux from the forthcoming revision of the ENERGY STAR Televisions test method;³ and

³ See: http://www.energystar.gov/revisedspecs.

• Proposed size boundaries for small/medium/large product categorization.

More information on DOE's participation in the SEAD Initiative and the Clean Energy Ministerial can be found at: http://www.cleanenergyministerial.org.

Issued in Washington, DC, on June 16, 2011.
Rick Duke,
Deputy Assistant Secretary, Policy and International Affairs.

[FR Doc. 2011-15693 Filed 6-22-11; 8:45 am]

BILLING CODE 6450-01-P